Title 3—

The President

Presidential Determination No. 2000-31 of September 28, 2000

Transfer of Economic Support Funds, Peacekeeping Operations Funds, and Foreign Military Financing Funds to the International Organizations and Programs Account and Use of Funds to Provide a U.S. Contribution of $29,407,000 to the Korean Peninsula Energy Development Organization (KEDO)

Memorandum for the Secretary of State

Pursuant to the authority vested in me by section 610(a) of the Foreign Assistance Act of 1961, as amended (the “Act”), I hereby determine that it is necessary for the purposes of the Act that:

•

$2.466 million in funds made available pursuant to chapter 6 of part II of the Act for fiscal year 2000;

•

$2 million in funds made available pursuant to chapter 4 of part II of the Act for prior fiscal years; and

•

$1.534 million in funds made available pursuant to section 23 of the Arms Export Control Act, as amended, for fiscal year 2000,

be transferred to, and consolidated with, funds made available for chapter 3 of part I of the Act.

In addition, pursuant to the authority vested in me by section 614(a)(1) of the Act, I hereby determine that it is important to the security interests of the United States to furnish up to:

•

$20,307,000 in funds made available under the title II (Nonproliferation, Anti-Terrorism, Demining, and Related Programs) of the Foreign Operations, Export Financing, and Related Programs Appropriations Act, 2000, as enacted in Public Law 106-113; and

•

$9.1 million in funds made available pursuant to chapter 3 of part I of the Act for fiscal year 2000, comprised of $6 million in funds transferred pursuant to this determination and $3.1 million in funds otherwise available pursuant to chapter 3 of part I of the Act,

for assistance to KEDO without regard to any provision of law within the scope of section 614(a)(1) of the Act. I hereby authorize the furnishing of this assistance.

You are hereby authorized and directed to transmit this determination to the Congress and to arrange for its publication in the Federal Register.

wj

THE WHITE HOUSE,

Washington, September 28, 2000.

[FR Doc. 00-25959

Filed 10-5-00; 8:45 am]

Billing code 4710-10-M